INTERNATIONAL TRADE COMMISSION

[Investigation No. U.S.-Morocco FTA-103-030]

Probable Economic Effect of Certain Modifications to the U.S.-Morocco FTA Rules of Origin

AGENCY: United States International Trade Commission.

ACTION: Notice of institution of investigation and opportunity to provide written comments.

SUMMARY: Following receipt of a request on August 24, 2016, from the United States Trade Representative (USTR), the Commission instituted investigation No. 103-030, Probable Economic Effect of Certain Modifications to the U.S.-Morocco FTA Rules of Origin, for the purpose of providing the advice required under § 104(1) of the United States-Morocco Free Trade Agreement Implementation Act.

DATES: October 13, 2016: Deadline for filing written submissions.

January 24, 2017: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's Electronic Document Information System (EDIS) at https://edis.usitc.gov.

FOR FURTHER INFORMATION CONTACT: Project leader Mahnaz Khan (202-205-2046 or mahnaz.khan@usitc.gov) or deputy project leader Heidi Colby-Oizumi (202-205-3391 or heidi.colby@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (https://www.usitc.gov). Persons with mobility impairments who will need special assistance in gaining access to the Commission should contact the Office of the Secretary at 202-205-2000.

BACKGROUND: In his request letter, the USTR stated that U.S. negotiators have recently reached agreement in principle with representatives of the government of Morocco on certain proposed modifications to the textile and apparel goods rules of origin contained in the U.S.-Morocco Free Trade Agreement (U.S.-Morocco FTA). The USTR noted that § 203(j)(2)(B)(i) of the United States-Morocco Free Trade Agreement Implementation Act (the Act) authorizes the President, subject to the consultation and layover requirements of § 104 of the Act, to proclaim such modifications to the rules of origin as are necessary to implement an agreement with Morocco pursuant to Annex 4.3 of the FTA. The USTR further stated that one of the requirements set out in § 104(1) is that the President obtain advice regarding the proposed action from the U.S. International Trade Commission.

In his request letter, the USTR asked that the Commission provide advice on the probable economic effect of the proposed modifications on U.S. trade under the U.S.-Morocco FTA, total U.S. trade, and on domestic producers of the affected articles. The affected articles identified in the proposal are certain apparel goods, including dresses, skirts, blouses, tops, shirts, shirt-blouses, and pants. The request letter and the complete list of proposed modifications are available on the Commission's Web site at https://www.usitc.gov/research_and_analysis/what_we_are_working_on.htm. As requested, the Commission will provide its advice to USTR by January 24, 2017.

WRITTEN SUBMISSIONS: No public hearing is planned for this investigation. However, interested parties are invited to file written submissions concerning this investigation. All written submissions should be addressed to the Secretary, and all such submissions should be received not later than 5:15 p.m., October 13, 2016. All written submissions must conform with the provisions of § 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Office of the Secretary, Docket Services Division (202-205-1802).

CONFIDENTIAL BUSINESS INFORMATION: Any submissions that contain confidential business information must also conform to the requirements of § 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission may include some or all of the confidential business information submitted in the course of this investigation in the report it sends to the USTR. As requested, the Commission will issue a public version of its report, with any confidential business information deleted, shortly after it transmits its report. All information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

SUMMARIES OF WRITTEN SUBMISSIONS: The Commission intends to publish summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found.

By order of the Commission.
Issued: September 8, 2016.
Lisa R. Barton,
Secretary to the Commission.

[FR Doc. 2016-21974 Filed 9-12-16; 8:45 am]

BILLING CODE 7020-02-P